DEPARTMENT OF HEALTH AND HUMAN SERVICES

Health Resources and Services Administration

National Vaccine Injury Compensation Program; List of Petitions Received

AGENCY: Health Resources and Services Administration, HHS.

ACTION: Notice.

SUMMARY: The Health Resources and Services Administration (HRSA) is publishing this notice of petitions received under the National Vaccine Injury Compensation Program (“the Program”), as required by Section 2112(b)(2) of the Public Health Service (PHS) Act, as amended. While the Secretary of Health and Human Services is named as the respondent in all proceedings brought by the filing of petitions for compensation under the Program, the United States Court of Federal Claims is charged by statute with responsibility for considering and acting upon the petitions.

FOR FURTHER INFORMATION CONTACT: For information about requirements for filing petitions, and the Program in general, contact the Clerk, United States Court of Federal Claims, 717 Madison Place, NW., Washington, DC 20005, (202) 219-9657. For information on HRSA's role in the Program, contact the Acting Director, National Vaccine Injury Compensation Program, 5600 Fishers Lane, Room 11C-26, Rockville, MD 20857; (301) 443-6593.

SUPPLEMENTARY INFORMATION: The Program provides a system of no-fault compensation for certain individuals who have been injured by specified childhood vaccines. Subtitle 2 of Title XXI of the PHS Act, 42 U.S.C. 300aa-10 et seq., provides that those seeking compensation are to file a petition with the U.S. Court of Federal Claims and to serve a copy of the petition on the Secretary of Health and Human Services, who is named as the respondent in each proceeding. The Secretary has delegated his responsibility under the Program to HRSA. The Court is directed by statute to appoint special masters who take evidence, conduct hearings as appropriate, and make initial decisions as to eligibility for, and amount of, compensation.

A petition may be filed with respect to injuries, disabilities, illnesses, conditions, and deaths resulting from vaccines described in the Vaccine Injury Table (the Table) set forth at Section 2114 of the PHS Act or as set forth at 42 CFR 100.3, as applicable. This Table lists for each covered childhood vaccine the conditions which will lead to compensation and, for each condition, the time period for occurrence of the first symptom or manifestation of onset or of significant aggravation after vaccine administration. Compensation may also be awarded for conditions not listed in the Table and for conditions that are manifested outside the time periods specified in the Table, but only if the petitioner shows that the condition was caused by one of the listed vaccines.

Section 2112(b)(2) of the PHS Act, 42 U.S.C. 300aa-12(b)(2), requires that the Secretary publish in the Federal Register a notice of each petition filed. Set forth below is a list of petitions received by HRSA on April 1, 2004, through June 30, 2004.

Section 2112(b)(2) also provides that the special master “shall afford all interested persons an opportunity to submit relevant, written information” relating to the following:

1. The existence of evidence “that there is not a preponderance of the evidence that the illness, disability, injury, condition, or death described in the petition is due to factors unrelated to the administration of the vaccine described in the petition,” and

2. Any allegation in a petition that the petitioner either:

(a) “Sustained, or had significantly aggravated, any illness, disability, injury, or condition not set forth in the Table but which was caused by” one of the vaccines referred to in the Table, or

(b) “Sustained, or had significantly aggravated, any illness, disability, injury, or condition set forth in the Vaccine Injury Table the first symptom or manifestation of the onset or significant aggravation of which did not occur within the time period set forth in the Table but which was caused by a vaccine” referred to in the Table.

This notice will also serve as the special master's invitation to all interested persons to submit written information relevant to the issues described above in the case of the petitions listed below. Any person choosing to do so should file an original and three (3) copies of the information with the Clerk of the U.S. Court of Federal Claims at the address listed above (under the heading FOR FURTHER INFORMATION CONTACT), with a copy to HRSA addressed to Acting Director, Division of Vaccine Injury Compensation Program, Healthcare Systems Bureau, 5600 Fishers Lane, Room 11C-26, Rockville, MD 20857. The Court's caption (Petitioner's Name v. Secretary of Health and Human Services) and the docket number assigned to the petition should be used as the caption for the written submission. Chapter 35 of title 44, United States Code, related to paperwork reduction, does not apply to information required for purposes of carrying out the Program.

List of Petitions

1. Jennifer and Mark Chung on behalf of Gabrielle Chung

Houston, Texas

Court of Federal Claims Number 04-0545V

2. Victor Pavlovic on behalf of Vito Pavlovic

Houston, Texas

Court of Federal Claims Number 04-0546V

3. Angela and Mauricio Bendahan on behalf of Benjamin Bendahan

Coalport, Pennsylvania

Court of Federal Claims Number 04-0548V

4. Bruce Hall on behalf of Jack Hall

Houston, Texas

Court of Federal Claims Number 04-0549V

5. Bruce Hall on behalf of James Hall

Houston, Texas

Court of Federal Claims Number 04-0550V

6. Mary and John McCarthy on behalf of Sean McCarthy

Vienna, Virginia

Court of Federal Claims Number 04-0552V

7. Brilliant and Lulyete Sherifi on behalf of Belgusa Sherifi

Pleasantville, New Jersey

Court of Federal Claims Number 04-0554V

8. Cheryl and Brian Hicks on behalf of Meagan Rose Hicks

Houston, Texas

Court of Federal Claims Number 04-0558V

9. Alizabeth and Sultan Haddad on behalf of Yazan Sultan Haddad

West Hills, California

Court of Federal Claims Number 04-0559V

10. Nancy and Charles Volz on behalf of Cara Anne Volz

Sandusky, Ohio

Court of Federal Claims Number 04-0560V

11. Crista and Jason Wyatt on behalf of Charles Thomas Wyatt

Houston, Texas

Court of Federal Claims Number 04-0561V

12. Audrey Cummings on behalf of Herbert Jerome Savage

Toledo, Ohio

Court of Federal Claims Number 04-0563V

13. Kathy and Michael Mason on behalf of Joshua Thomas Mason

Springfield, Ohio

Court of Federal Claims Number 04-0564V

14. Kathleen and Brian O'Keefe on behalf of Brian Michael O'Keefe

Houston, Texas

Court of Federal Claims Number 04-0565V

15. Colleen and Paul Theis on behalf of Zachary Paul Theis

Coon Rapids, Minnesota

Court of Federal Claims Number 04-0566V

16. Susan and Ronald Fox on behalf of Joshua Peter Fox

Montgomery, Ohio

Court of Federal Claims Number 04-0567V

17. Ladesha Webb on behalf of Da'Shaun Quontez Gray

Lexington, Kentucky

Court of Federal Claims Number 04-0568V

18. Sherry Amaral on behalf of Avery Lopez

Gormley, Illinois

Court of Federal Claims Number 04-0569V

19. Kevin O'Gara on behalf of Samuel O'Gara

N. Dartmouth, Massachusetts

Court of Federal Claims Number 04-0570V

20. Catherine and Keith Cloutier on behalf of Kaitlyn Cloutier

Southbridge, Massachusetts

Court of Federal Claims Number 04-0571V

21. Marjorie and Jared Hansen on behalf of William Hansen

Salt Lake City, Utah

Court of Federal Claims Number 04-0572V

22. Sherry Amaral on behalf of Jareb Lopez

Gormley, Illinois

Court of Federal Claims Number 04-0573V

23. Joy Packa on behalf of Hunter Packa

Aurora, Minnesota

Court of Federal Claims Number 04-0574V

24. Marjorie and Jared Hansen on behalf of Jacob Hansen

Salt Lake City, Utah

Court of Federal Claims Number 04-0575V

25. Michelle and Laney White on behalf of Chandler McDavid White

Lexington, Mississippi

Court of Federal Claims Number 04-0578V

26. Carmencita and John Byrd on behalf of Jabari Rashad Byrd

Lexington, Mississippi

Court of Federal Claims Number 04-0579V

27. Lori and James Harper on behalf of Stefanie Rose Harper

St. Paul, Minnesota

Court of Federal Claims Number 04-0582V

28. Tracey and Charles Hayes on behalf of Thaddeus Isura Hayes

Stockton, California

Court of Federal Claims Number 04-0583V

29. Wendy and Andrew Hagen on behalf of Alexander Harold Hagen

Waconia, Minnesota

Court of Federal Claims Number 04-0584V

30. Anna and George Harding on behalf of Genevieve Abigael Harding

Burneville, Minnesota

Court of Federal Claims Number 04-0585V

31. Lolisa Hampton on behalf of Brandon Dante Hampton

Holland, Michigan

Court of Federal Claims Number 04-0586V

32. Alfreda Armstrong on behalf of Wister Armstrong

Due West, South Carolina

Court of Federal Claims Number 04-0587V

33. Romeo Ramirez on behalf of Alejandro Ramirez

Decatur, Texas

Court of Federal Claims Number 04-0588V

34. Jaime Liendo on behalf of James Raf Liendo

Decatur, Texas

Court of Federal Claims Number 04-0589V

35. Jessica Fuentes on behalf of Jeremy Fuentes

Decatur, Texas

Court of Federal Claims Number 04-0590V

36. Anabel and James Segovia on behalf of James Segovia, Jr.

Decatur, Texas

Court of Federal Claims Number 04-0591V

37. Gloria Branstrom on behalf of Eric Peter Branstrom

Decatur, Texas

Court of Federal Claims Number 04-0592V

38. Gloria Branstrom on behalf of Celeste Ann Branstrom

Decatur, Texas

Court of Federal Claims Number 04-0593V

39. Jessica Navarro on behalf of Jorge Alberto Rodriguez

Decatur, Texas

Court of Federal Claims Number 04-0594V

40. Maria Leonor Guzman on behalf of Francisco Javier Guzman

Decatur, Texas

Court of Federal Claims Number 04-0595V

41. Cynthia Rivera on behalf of Santiago Jesus Rivera

Decatur, Texas

Court of Federal Claims Number 04-0596V

42. Cynthia Rivera on behalf of Amador Jesus Rivera

Decatur, Texas

Court of Federal Claims Number 04-0597V

43. Angelina Ruiz on behalf of Eluid Ruiz

Decatur, Texas

Court of Federal Claims Number 04-0598V

44. Joann and Patrick Kelly on behalf of David Patrick Kelly

Ridley Park, Pennsylvania

Court of Federal Claims Number 04-0599V

45. Yvonne and Timothy Jackson on behalf of Jayda Monay Jackson

East Hampton, New York

Court of Federal Claims Number 04-0600V

46. Louvenia McCarter on behalf of De'Vin De'Vonate Johnson

Chicago, Illinois

Court of Federal Claims Number 04-0601V

47. Jacob Horne on behalf of Sean Horne

Denver, Colorado

Court of Federal Claims Number 04-0602V

48. Dena and David Isbell on behalf of Jesse David Isbell

Houston, Texas

Court of Federal Claims Number 04-0603V

49. Ruth and Charles Hult on behalf of Joshua Robert Hult

Houston, Texas

Court of Federal Claims Number 04-0604V

50. Kenneth Hobbs

North Verum, Indiana

Court of Federal Claims Number 04-0607V

51. Leisa and Forrest Littleton on behalf of Cody Nicholas Littleton

Ashland, Kentucky

Court of Federal Claims Number 04-0611V

52. Julie and Thomas Kraus on behalf of Troy Richard Kraus

Cape May, New Jersey

Court of Federal Claims Number 04-0612V

53. Bridget and Wayde Kent on behalf of Alexander Preston Kent

Lewisville, Texas

Court of Federal Claims Number 04-0613V

54. Yvonne and Michael Johnson on behalf of Lauren Valerie Johnson

Houston, Texas

Court of Federal Claims Number 04-0614V

55. Charlotte and Christopher Warn on behalf of Cleo Warn

Salinas, California

Court of Federal Claims Number 04-0615V

56. Tresa Lynn Wade on behalf of Thomas Paul Wade

Charleston, West Virginia

Court of Federal Claims Number 04-0616V

57. Evelyn and James Kanitz on behalf of Brandi Kanitz

Houston, Texas

Court of Federal Claims Number 04-0617V

58. Valeri and Steven Lira on behalf of Ian Alonzo Lira

Houston, Texas

Court of Federal Claims Number 04-0618V

59. Michelle and Trevor Leathers on behalf of Trevor Anthony Leathers

Austin, Texas

Court of Federal Claims Number 04-0619V

60. Peggy and Quintin Johnson on behalf of Caleb Adam Johnson

Detroit, Michigan

Court of Federal Claims Number 04-0620V

61. Evelyn and James Kanitz on behalf of Melinda Rae Kanitz

Houston, Texas

Court of Federal Claims Number 04-0621V

62. Julie and Jacques Krustriz on behalf of Jacques Michael Krustriz, II

Waconia City, Minnesota

Court of Federal Claims Number 04-0622V

63. Stephanie and Joseph Krist on behalf of Jonathan Austin Krist

San Antonio, Texas

Court of Federal Claims Number 04-0623V

64. Angela Lynn Villalovos on behalf of Andre Kioneau Nathan D'Angelo Villalovos

Denver, Colorado

Court of Federal Claims Number 04-0624V

65. Donette and Marcus White on behalf of Dayveon Marcus White

Edenton, North Carolina

Court of Federal Claims Number 04-0625V

66. Laura Brown and Cary Wright on behalf of Halie Erin Wright

San Antonio, Texas

Court of Federal Claims Number 04-0626V

67. Laura and Stephen Whatley on behalf of Chad Dean Whatley

Lewisville, Texas

Court of Federal Claims Number 04-0627V

68. Mary Lee and Patrick Wright on behalf of Logan Patrick Wright

El Cajon, California

Court of Federal Claims Number 04-0628V

69. Carmen and Kevin Wright on behalf of Jacob Norman Wright

Baxter, Minnesota

Court of Federal Claims Number 04-0629V

70. Marilyn and Orlando Webster on behalf of Jaleesa Renee Webster

Manassas, Virginia

Court of Federal Claims Number 04-0630

71. George Kadar on behalf of Zsuzsanna Meszaros, Deceased

Irvine, California

Court of Federal Claims Number 04-0631V

72. Mary Hisel on behalf of Zachary Hisel

Boston, Massachusetts

Court of Federal Claims Number 04-0637V

73. Henrietta Boota on behalf of Zachary Boota

Boston, Massachusetts

Court of Federal Claims Number 04-0638V

74. Sandy Bond on behalf of Andre Bond

Boston, Massachusetts

Court of Federal Claims Number 04-0639V

75. Melinda Chandler on behalf of Jacob Chandler

Boston, Massachusetts

Court of Federal Claims Number 04-0640V

76. Susan Kippenberger on behalf of John Patrick Kippenberger

Boston, Massachusetts

Court of Federal Claims Number 04-0641V

77. Brenda and Peter Leahy on behalf of Aidan Leahy

Sarasota, Florida

Court of Federal Claims Number 04-0642V

78. Alma Plascenia on behalf of Jose Ernesto Andrade

Dallas, Texas

Court of Federal Claims Number 04-0645V

79. Leona and Ernest Wehrle on behalf of Lyndsi Nichole Wehrle

Charleston, West Virginia

Court of Federal Claims Number 04-0646V

80. Kathy and Dean Binek on behalf of Spencer Kenneth Binek

Waconia, Minnesota

Court of Federal Claims Number 04-0647V

81. Veronica and Douglas Birk on behalf of Alexander Douglas Birk

Houston, Texas

Court of Federal Claims Number 04-0648V

82. Juanita and Lars Benson on behalf of Lance Raven Benson

Houston, Texas

Court of Federal Claims Number 04-0649V

83. Holli Ferguson on behalf of Brian Ferguson

Portland, Oregon

Court of Federal Claims Number 04-0650V

84. Barbara Dunham on behalf of Joshua Dunham

Portland, Oregon

Court of Federal Claims Number 04-0651V

85. Ana Meckes on behalf of Elliott Meckes

Portland, Oregon

Court of Federal Claims Number 04-0652V

86. Dawn and Brian Cheevis on behalf of William Cheevis

Houston, Texas

Court of Federal Claims Number 04-0657V

87. Gloria and Michael Schindlar on behalf of Michael Schindlar

Houston, Texas

Court of Federal Claims Number 04-0658V

88. Frances and Bernard Phillips on behalf of Wesley Phillips

Houston, Texas

Court of Federal Claims Number 04-0659V

89. Sharon Muse on behalf of Shamara Grant-Muse

New Orleans, Louisiana

Court of Federal Claims Number 04-0660V

90. Joanne and Tommy Benasco on behalf of Anthony Benasco

New Orleans, Louisiana

Court of Federal Claims Number 04-0661V

91. Tammy and Frank Melito on behalf of Anthony Melito

Boston, Massachusetts

Court of Federal Claims Number 04-0662V

92. Maria Thatcher on behalf of Michael David Thatcher

Decatur, Texas

Court of Federal Claims Number 04-0663V

93. Norma and Armando Gomez on behalf of Ismael Gomez

Decatur, Texas

Court of Federal Claims Number 04-0664V

94. Dolores Garza on behalf of Alexandria Garza

Decatur, Texas

Court of Federal Claims Number 04-0665V

95. Margaret Campbell

St. Paul, Minnesota

Court of Federal Claims Number 04-0666V

96. Karen Edwards on behalf of Porter Edwards, III

New Orleans, Louisiana

Court of Federal Claims Number 04-0667V

97. Michelle Scarbrough on behalf of Tyler Scarbrough

New Orleans, Louisiana

Court of Federal Claims Number 04-0668V

98. Ivory Ross on behalf of Lavar Ross

New Orleans, Louisiana

Court of Federal Claims Number 04-0669V

99. Jennifer Pepin on behalf of Melissa Pepin

New Orleans, Louisiana

Court of Federal Claims Number 04-0670V

100. Karen Eader on behalf of James Charles Eader

New Orleans, Louisiana

Court of Federal Claims Number 04-0671V

101. Greta Davis on behalf of Patrick Davis, Jr.

New Orleans, Louisiana

Court of Federal Claims Number 04-0672V

102. Denise Robateau on behalf of Ebony Robateau

New Orleans, Louisiana

Court of Federal Claims Number 04-0673V

103. Patrick Helmstetter on behalf of Frank Helmstetter

New Orleans, Louisiana

Court of Federal Claims Number 04-0674V

104. Angele McKnight on behalf of Scott McKnight

New Orleans, Louisiana

Court of Federal Claims Number 04-0675V

105. Lisa Vargas on behalf of Gina Vargas

Boston, Massachusetts

Court of Federal Claims Number 04-0676V

106. Stephanie Buckley on behalf of Daniel Pitts

Boston, Massachusetts

Court of Federal Claims Number 04-0677V

107. Marla Jordan on behalf of Markhal Jordan

Boston, Massachusetts

Court of Federal Claims Number 04-0678V

108. Lisa Vargas on behalf of Ramiro Vargas

Boston, Massachusetts

Court of Federal Claims Number 04-0679V

109. Lisa Vargas on behalf of Alejandra Vargas

Boston, Massachusetts

Court of Federal Claims Number 04-0680V

110. Rita Weintraub

Falls Church, Virginia

Court of Federal Claims Number 04-0684V

111. Kristy Browland on behalf of Bryce Ladue

Boston, Massachusetts

Court of Federal Claims Number 04-0685V

112. Lisa Grover on behalf of Lindsey Grover

Boston, Massachusetts

Court of Federal Claims Number 04-0686V

113. Lori and Sam Eriksen on behalf of Hannah Marie Eriksen

Memphis, Tennessee

Court of Federal Claims Number 04-0687V

114. Hope and Donald Leclerc on behalf of Donald Leclerc

Manchester, New Hampshire

Court of Federal Claims Number 04-0688V

115. Cheryl and John Schmidt on behalf of Carter Schmidt

Houston, Texas

Court of Federal Claims Number 04-0689V

116. Al Matlosz on behalf of James Matlosz

Houston, Texas

Court of Federal Claims Number 04-0690V

117. Louise and Roger Scholl on behalf of Andrea Scholl

Forsyth, Georgia

Court of Federal Claims Number 04-0691V

118. Jana and Barry Bandera on behalf of Caroline Bandera

Austin, Texas

Court of Federal Claims Number 04-0692V

119. Billie and Michael Schueman on behalf of Cheyenne Schriver

Hobbs, New Mexico

Court of Federal Claims Number 04-0693V

120. Shari Farber on behalf of Cameron Harris

Fremont, Nebraska

Court of Federal Claims Number 04-0695V

121. Pamela and Leslie Chojnacki on behalf of Joshua Leonard Chojnacki

Houston, Texas

Court of Federal Claims Number 04-0696V

122. Laura and Joseph Bell on behalf of Joseph Herbert Bell

Hudson, New Hampshire

Court of Federal Claims Number 04-0697V

123. Eileen and Richard Cook on behalf of Michael Alexander Cook

Merrillville, Indiana

Court of Federal Claims Number 04-0698V

124. Cynthia Griffin on behalf of Benjamin Lewis Griffin

Richmond, Kentucky

Court of Federal Claims Number 04-0699V

125. Kathlyn and Michael Polensek behalf of Andrew Joseph Polensek

Cleveland, Ohio

Court of Federal Claims Number 04-0700V

126. Martha Ann Rodriguez on behalf of David Michael Rodriguez

San Antonio, Texas

Court of Federal Claims Number 04-0701V

127. Rene Luzzi-Leconte on behalf of Nicholas Leconte

Houston, Texas

Court of Federal Claims Number 04-0702V

128. Diane and Stephen Blalock on behalf of Andrew John Blalock

Tacoma, Washington

Court of Federal Claims Number 04-0703V

129. Rachael Clark on behalf of Ronny Cesar Vargas

Paterson, New Jersey

Court of Federal Claims Number 04-0704V

130. Marie Lee and Karl Jacoby on behalf of Jason Dean Jacoby Lee

Providence, Rhode Island

Court of Federal Claims Number 04-0705V

131. Lucy and Bill Szymanski on behalf of Christopher Elvis Szymanski

Long Beach, New York

Court of Federal Claims Number 04-0706V

132. Jane and Wallace Sparks on behalf of Logan Sparks

Portland, Oregon

Court of Federal Claims Number 04-0708V

133. Rita and Allan Cheskiewicz on behalf of Allan James Cheskiewicz

Haverton, Pennsylvania

Court of Federal Claims Number 04-0712V

134. Lorie Katz on behalf of Loris Katz

Las Vegas, Nevada

Court of Federal Claims Number 04-0714V

135. Gail Rockwood on behalf of Calvin Jenkins

New Orleans, Louisiana

Court of Federal Claims Number 04-0716V

136. Marla Macaluso on behalf of Frank Macaluso

New Orleans, Louisiana

Court of Federal Claims Number 04-0719V

137. Demetericus Thurmond on behalf of Nathaniel Thurmond

New Orleans, Louisiana

Court of Federal Claims Number 04-0720V

138. William Wolfe on behalf of Caleb Wolfe

New Orleans, Louisiana

Court of Federal Claims Number 04-0721V

139. Koulor Duet on behalf of Tristan Duet

New Orleans, Louisiana

Court of Federal Claims Number 04-0722V

140. Jeanenne Phillips on behalf of Susan Phillips

New Orleans, Louisiana

Court of Federal Claims Number 04-0723V

141. Chantell Henderson on behalf of Kendrick Williams

New Orleans, Louisiana

Court of Federal Claims Number 04-0724V

142. Jennifer and Marc Dowdell on behalf of Parker Dowdell

Somers Point, New Jersey

Court of Federal Claims Number 04-0725V

143. Robin and Richard Butler on behalf of Hope Christine Butler

Jacksonville, Florida

Court of Federal Claims Number 04-0726V

144. Robin and Richard Butler on behalf of Faith Renee Butler

Jacksonville, Florida

Court of Federal Claims Number 04-0727V

145. Robin and Richard Butler on behalf of Emily Grace Butler

Jacksonville, Florida

Court of Federal Claims Number 04-0728V

146. Shannon and Bob Gougeon on behalf of Travis Gougeon

Houston, Texas

Court of Federal Claims Number 04-0729V

147. Michael Bittner on behalf of Samuel Bittner

Houston, Texas

Court of Federal Claims Number 04-0730V

148. Michael Bittner on behalf of Deanna Bittner

Houston, Texas

Court of Federal Claims Number 04-0731V

149. Carla and Frank Jenkins on behalf of Frank Jenkins, Jr.

Jacksonville, Florida

Court of Federal Claims Number 04-0732V

150. Cindy and Joseph Winder on behalf of Joseph Quentin Winder

Jacksonville, Florida

Court of Federal Claims Number 04-0733V

151. Mark Quintal on behalf of Alex Quintal

North Dartmouth, Massachusetts

Court of Federal Claims Number 04-0734V

152. Lora Nelson on behalf of Steffany Nelson

Fayetteville, Arizona

Court of Federal Claims Number 04-0735V

153. Honey and Robert Rinicella on behalf of Victor Samuel Rinicella

Atlanta, Georgia

Court of Federal Claims Number 04-0736V

154. Honey and Robert Rinicella on behalf of Vincent Anthony Rinicella

Atlanta, Geogia

Court of Federal Claims Number 04-0737V

155. Rosetta and Aron Belton on behalf of Brandon Belton

Augora, California

Court of Federal Claims Number 04-0738V

156. Carol and Jose Acevedo on behalf of David Acevedo

Dallas, Texas

Court of Federal Claims Number 04-0739V

157. Carol and Jose Acevedo on behalf of Kaila Acevedo

Dallas, Texas

Court of Federal Claims Number 04-0740V

158. Cassandra and Christopher Gorton on behalf of Kelsey Gorton

Sarasota, Florida

Court of Federal Claims Number 04-0741V

159. Heather Issac Merrill on behalf of Alexander Merrill

Somers Point, New Jersey

Court of Federal Claims Number 04-0743V

160. Barbara and John Bonar on behalf of Alexandra Elizabeth Bonar

Covington, Kentucky

Court of Federal Claims Number 04-0744V

161. Terri Bennick on behalf of Connor Bennick

Portland, Oregon

Court of Federal Claims Number 04-0746V

162. Kara and Eric Konecke on behalf of Jacqueline Konecke

Philadelphia, Pennsylvania

Court of Federal Claims Number 04-0749V

163. Cammie and Shane Spitler on behalf of Natalie Leeann Spitler

Vinita, Oklahoma

Court of Federal Claims Number 04-0751V

164. Michelle and Kevin Steffl on behalf of Alex Jordan Steffl

Houston, Texas

Court of Federal Claims Number 04-0752V

165. Juanetha Purnell on behalf of Chajuan Jonta Purnell

Selma, Alabama

Court of Federal Claims Number 04-0753V

166. Terresa and Benjamin York on behalf of Nashoba Lee York

Houston, Texas

Court of Federal Claims Number 04-0754V

167. Pam and Mike Williams on behalf of Cordell James Williams

Houston, Texas

Court of Federal Claims Number 04-0755V

168. Beverly and Jerry Wilkes on behalf of Shane Anthony Wilkes

Houston, Texas

Court of Federal Claims Number 04-0756V

169. Cheryl and Alfred Taylor on behalf of Aaron Raymon Taylor

Longview, Pennsylvania

Court of Federal Claims Number 04-0757V

170. Melissa Montano on behalf of Trysten Smith

Pueblo, Colorado

Court of Federal Claims Number 04-0758V

171. Jared Zevetchin on behalf of Jared Austin Zevetchin

Teaneck, New York

Court of Federal Claims Number 04-0759V

172. Natisha and Kenneth Reyna on behalf of Anthony Kino Reyna

Houston, Texas

Court of Federal Claims Number 04-0760V

173. Crystal and Martin Radel on behalf of Joseph Martin Radel

Seattle, Washington

Court of Federal Claims Number 04-0761V

174. Michelle Mabe and Walter Spencer on behalf of Dylan Justice Spencer

Encinatas, California

Court of Federal Claims Number 04-0762V

175. Chiquita and Maurice Allison on behalf of Kaleb Allison

Houston, Texas

Court of Federal Claims Number 04-0764V

176. Natalie Franklin on behalf of Jacob Crane

Houston, Texas

Court of Federal Claims Number 04-0765V

177. Jerry Leo Moore, II on behalf of Jerry Leo Moore, III

Boston, Massachusetts

Court of Federal Claims Number 04-0766V

178. Constance Hains on behalf of Kyle Hains

Boston, Massachusetts

Court of Federal Claims Number 04-0767V

179. Kevin Goode on behalf of Robert Goode

Boston, Massachusetts

Court of Federal Claims Number 04-0768V

180. Kevin Goode on behalf of Richard Goode

Boston, Massachusetts

Court of Federal Claims Number 04-0769V

181. Jessica Whitt on behalf of Benjamin George

Newark, New Jersey

Court of Federal Claims Number 04-0770V

182. Sandra Lewis on behalf of Justin Cease

Boston, Massachusetts

Court of Federal Claims Number 04-0773V

183. Shireen Burki-Liebl on behalf of Joseph Liebl

Boston, Massachusetts

Court of Federal Claims Number 04-0774V

184. Shireen Burki-Liebl on behalf of Vern Liebl

Boston, Massachusetts

Court of Federal Claims Number 04-0775V

185. Denise Carol Welch on behalf of Quinten Levi Braxton

Robbinsdale, Minnesota

Court of Federal Claims Number 04-0776V

186. Ericka Webb on behalf of Branden Tyrece Webb

Houston, Texas

Court of Federal Claims Number 04-0777V

187. Ladawn Twinette Davis Hall on behalf of Bria Khalia Brown

Baltimore, Maryland

Court of Federal Claims Number 04-0778V

188. Christine Elaine Blevins-Harker on behalf of Edward Wayne Blevins

Baltimore, Maryland

Court of Federal Claims Number 04-0779V

189. April Weaver on behalf of Jamie Lee Burcham

Durham, North Carolina

Court of Federal Claims Number 04-0780V

190. Karey Shepherd on behalf of Kennedy Lynn Shepherd

Jacksonville, Florida

Court of Federal Claims Number 04-0784V

191. Amber Mitchell on behalf of Carson Brown

Flint, Michigan

Court of Federal Claims Number 04-0785V

192. Charlotte Coleman on behalf of Autris Coleman

Vienna, Virginia

Court of Federal Claims Number 04-0787V

193. Holly Hardesty on behalf of Madison Hardesty

Boston, Massachusetts

Court of Federal Claims Number 04-0788V

194. Deborah Nadaner on behalf of Abigail Nadaner

Boston, Massachusetts

Court of Federal Claims Number 04-0789V

195. Karen and David Beauvais on behalf of Joshua Beauvais

Birmingham, Alabama

Court of Federal Claims Number 04-0792V

196. Ebony Jackson and Lawrence Edwards on behalf of King Edwards

Houston, Texas

Court of Federal Claims Number 04-0797V

197. Yvette Powell on behalf of Devon King

Houston, Texas

Court of Federal Claims Number 04-0798V

198. Tracye and Lance Randolph on behalf of Scout Randolph

Houston, Texas

Court of Federal Claims Number 04-0799V

199. Karen and David Orlando on behalf of Andrew Orlando

Lake Success, New York

Court of Federal Claims Number 04-0803V

200. Harriette Vega on behalf of Bonnell Kimbouri

Boston, Massachusetts

Court of Federal Claims Number 04-0808V

201. Connie Thorup on behalf of Alexander Tippets

Boston, Massachusetts

Court of Federal Claims Number 04-0809V

202. Nina Hicks on behalf of Dustin Hicks

Boston, Massachusetts

Court of Federal Claims Number 04-0810V

203. Michelle Williams on behalf of David Williams

Boston, Massachusetts

Court of Federal Claims Number 04-0811V

204. Christine Wise on behalf of Jacob Scott Bindis

Massillon, Ohio

Court of Federal Claims Number 04-0813V

205. Yolanda and Albert Bracamonte on behalf of Albert Gabriel Bracamonte, III

Bonita, California

Court of Federal Claims Number 04-0814V

206. Rachel and Peter Boney on behalf of Benjamin Philip Boney

St. Louis Park, Minnesota

Court of Federal Claims Number 04-0815V

207. Jaylene and Curtis Charrier on behalf of William Keith Charrier

Baton Rouge, Louisiana

Court of Federal Claims Number 04-0816V

208. Jorge and Belkys Cairo on behalf of Jake Michael Cairo

Pembroke Pines, Florida

Court of Federal Claims Number 04-0817V

209. Ruth Linares on behalf of Javier Alberto Chuquimia

Houston, Texas

Court of Federal Claims Number 04-0818V

210. Carol and Russell Brown on behalf of Joseph Alan Brown

Olympia, Washington

Court of Federal Claims Number 04-0819V

211. Sharon and Carl Bond on behalf of Carlicia Antrice Bond

Clarksdale, Mississippi

Court of Federal Claims Number 04-0820V

212. Ruth and Curt Peterson on behalf of Blair Maria Peterson

Bellevue, Washington

Court of Federal Claims Number 04-0821V

213. Gail and Jesse Romines on behalf of Wesley Dale Romines

Los Angeles, California

Court of Federal Claims Number 04-0822V

214. Shaneathia Johnson on behalf of Justin Deshawn Hunt

Grove Hill, Alabama

Court of Federal Claims Number 04-0823V

215. Rosa and Jesus Velasquez on behalf of Jesus Elan Velasquez

Pearland, Texas

Court of Federal Claims Number 04-0824V

216. Patricia and Martin Peru on behalf of Martin Guillermo Peru

Mesa, Arizona

Court of Federal Claims Number 04-0825V

217. Kimberly Putnam and Michael Lamonica on behalf of Michael Lamonica

West Islip, New York

Court of Federal Claims Number 04-0826V

218. Tina Church on behalf of Edward Clayton Church

Seattle, Washington

Court of Federal Claims Number 04-0827V

219. Angela and Craig Cottrell on behalf of Kishla Reanne Cottrell

Lafayette, Indiana

Court of Federal Claims Number 04-0828V

220. Travis Smith on behalf of Patrick Smith

Somers Point, New Jersey

Court of Federal Claims Number 04-0832V

221. Ammie and Andres Herrera on behalf of Anderson Herrera

Bala Cynwyd, Pennsylvania

Court of Federal Claims Number 04-0834V

222. Anita and John Trayling on behalf of Xeidler Walter Trayling

Houston, Texas

Court of Federal Claims Number 04-0838V

223. Yvonne and Charles Reed on behalf of Jacob Luis Reed

Conroe, Texas

Court of Federal Claims Number 04-0839V

224. Carey and Carl Morgan on behalf of Cole Everett Morgan

Jeffersonville, Indiana

Court of Federal Claims Number 04-0840V

225. Carolyn and Keith Marshall on behalf of Keith Alfred Marshall

Brooklyn, New York

Court of Federal Claims Number 04-0841V

226. Yolanda and Darick Harper on behalf of Ra'Jon Harper

San Jose, California

Court of Federal Claims Number 04-0842V

227. Sylvia and David Seward on behalf of Randy William Seward

Antioch, California

Court of Federal Claims Number 04-0843V

228. Rosa and Brian Campbell on behalf of Keenan Matthew Campbell

Houston, Texas

Court of Federal Claims Number 04-0844V

229. Vickie and Brian Snook on behalf of John Austin Snook

Houston, Texas

Court of Federal Claims Number 04-0845V

230. Patricia Faillo and Paul Ivery on behalf of Anthony James Ivery

Houston, Texas

Court of Federal Claims Number 04-0846V

231. Christina and John Rushing on behalf of Matthew Steven Rushing

Covina, California

Court of Federal Claims Number 04-0847V

232. Paige and Steve Hodges on behalf of Samuel Luke Hodges

Houston, Texas

Court of Federal Claims Number 04-0848V

233. Carey and Carl Morgan on behalf of Cole Christopher Morgan

Jeffersonville, Indiana

Court of Federal Claims Number 04-0849V

234. Donna Owen on behalf of Jon Renard Owen

Hopkinsville, Kentucky

Court of Federal Claims Number 04-0850V

235. Jennifer and Jason Morrison on behalf of Jenna Katherine Morrison

Littleton, Colorado

Court of Federal Claims Number 04-0851V

236. Neisha Richard on behalf of Joseph Richard

Boston, Massachusetts

Court of Federal Claims Number 04-0852V

237. Sally Medina on behalf of Josephina Marin

Boston, Massachusetts

Court of Federal Claims Number 04-0853V

238. Melissa Abdullah-Musa on behalf of Jasir Abdullah-Musa

Boston, Massachusetts

Court of Federal Claims Number 04-0854V

239. Michalean and Michael McGraw on behalf of Michael James McGraw, II

Grand Rapids, Michigan

Court of Federal Claims Number 04-0857V

240. Angelina and Juan Rios on behalf of Jesus Antonio Rios

Kansas City, Missouri

Court of Federal Claims Number 04-0858V

241. Sheila Lawton on behalf of Del Jose Anderson, II

Compton, California

Court of Federal Claims Number 04-0859V

242. Shannon Dunbar and Allan Walker on behalf of Nicklaus Clark Walker

Houston, Texas

Court of Federal Claims Number 04-0860V

243. Daryl and Evelyn Pannell on behalf of Terrance Pannell

Cleveland, Ohio

Court of Federal Claims Number 04-0861V

244. Johanne and Kenneth Grizzle on behalf of Rebecca Marie Grizzle

Winter Haven, Florida

Court of Federal Claims Number 04-0862V

245. Nancy Christopher on behalf of Kayla Karina Christopher

Laramie, Wyoming

Court of Federal Claims Number 04-0863V

246. Donna Owen of Joshua Randall Owen

Hopkinsville, Kentucky

Court of Federal Claims Number 04-0864V

247. Yolanda and Darick Harper on behalf of Da'Jon Harper

San Jose, California

Court of Federal Claims Number 04-0865V

248. Julia Howard on behalf of Jonathan Michael Howard

Houston, Texas

Court of Federal Claims Number 04-0866V

249. Rene and Ken Murphy on behalf of Andrew James Murphy

Sonoma, California

Court of Federal Claims Number 04-0867V

250. Vonda Hill on behalf of Kalen Wesley Maldon

Richmond, California

Court of Federal Claims Number 04-0868V

251. Tammy and Kevin Bruce on behalf of Joshua Lee Bruce

Houston, Texas

Court of Federal Claims Number 04-0869V

252. Jose Grajales and Sidelia Mora on behalf of Andy Grajales Mora

Hillister, Georgia

Court of Federal Claims Number 04-0870V

253. Anna Bell Marrs on behalf of Cameron Brandon Marrs

Marywood, Illinois

Court of Federal Claims Number 04-0871V

254. Irene and John Finley on behalf of Irene Finley

Alexandria, Louisiana

Court of Federal Claims Number 04-0874V

255. Kristen and Bradley Troyer on behalf of Jacob Troyer

Miami, Florida

Court of Federal Claims Number 04-0875V

256. Mary Carol Roesser on behalf of Williams Roesser

Miami, Florida

Court of Federal Claims Number 04-0876V

257. Kellye Hudson-Lyons on behalf of Hunter Sebastian Lyons

Jacksonville, Florida

Court of Federal Claims Number 04-0877V

258. Sherril and Eric Cherry on behalf of Rajon Demetrius Cherry

Jacksonville, Florida

Court of Federal Claims Number 04-0878V

259. Laura Hollandsworth on behalf of Corry Hollandsworth

Portland, Oregon

Court of Federal Claims Number 04-0881V

260. Lee Orr on behalf of Malik Orr

Portland, Oregon

Court of Federal Claims Number 04-0882V

261. Sandra and Anthony Proctor on behalf of Nicholas Mark Wayne Brown

Huntington, West Virginia

Court of Federal Claims Number 04-0885V

262. Damaris Davis on behalf of Chandler Sequan-Jamal Davis

Lallisbury, North Carolina

Court of Federal Claims Number 04-0886V

263. Karen and Mark Hardison on behalf of Peter James Hardison

Phoenix, Arizona

Court of Federal Claims Number 04-0887V

264. Dina and Israel Lara on behalf of Israel Lara, Jr.

Houston, Texas

Court of Federal Claims Number 04-0888V

265. Lucinda and Roger Notsch on behalf of Joseph Robert Notsch

Houston, Texas

Court of Federal Claims Number 04-0889V

266. Maria and Leroy Battaglio on behalf of Gunner Lee Battaglio

Mobile, Alabama

Court of Federal Claims Number 04-0890V

267. Marjorie Gutierrez on behalf of Kayden Anne Vargas

Houston, Texas

Court of Federal Claims Number 04-0891V

268. Tina Powers on behalf of Jonathan Scott Powers

Lancaster, Wisconsin

Court of Federal Claims Number 04-0892V

269. Tracy and Bobby Singelton on behalf of Jamal Magic Singelton

Fridley, Minnesota

Court of Federal Claims Number 04-0893V

270. Traci Houser on behalf of Ruben Anthony Gutierrez

Houston, Texas

Court of Federal Claims Number 04-0894V

271. Yoshiko and Michael Garrison on behalf of Ichiro Michael Garrison

Houston, Texas

Court of Federal Claims Number 04-0895V

272. Susan and John Emery on behalf of John Jay Emery

Everett, Washington

Court of Federal Claims Number 04-0896V

273. Angela Banks on behalf of Parker Banks

Orofino, Idaho

Court of Federal Claims Number 04-0897V

274. Carolyn and Trent Sargent on behalf of Trent Stephen Sargent

Houston, Texas

Court of Federal Claims Number 04-0898V

275. Marsha and Gonzalo Vasquez on behalf of Anthony Gonzalo Vasquez

Mission Hills, California

Court of Federal Claims Number 04-0899V

276. Michelle and Colin Campbell on behalf of Savannah Georgia Campbell

Isleton, California

Court of Federal Claims Number 04-0900V

277. Cynthia and Christopher Sibley on behalf of Jacklyn Sibley

Houston, Texas

Court of Federal Claims Number 04-0905V

278. Mary and Kurt Graham on behalf of John Graham

Smyrna, Georgia

Court of Federal Claims Number 04-0912V

279. Kay Tingle and Wendell Coleman on behalf of Samantha Marie Thomas

Philadelphia, Pennsylvania

Court of Federal Claims Number 04-0913V

280. Susan and Brian Fletcher on behalf of Patrick Lee Fletcher

Plano, Texas

Court of Federal Claims Number 04-0914V

281. Rosie and Fester Walton on behalf of Dont'e Louis Walton

Flint, Michigan

Court of Federal Claims Number 04-0915V

282. Lori and Drake Bachend on behalf of Joshua Ed Bachend

Schuykill Haven, Pennsylvania

Court of Federal Claims Number 04-0916V

283. Martha and Juan Carreno on behalf of Charles Michael Carreno

Anaheim, California

Court of Federal Claims Number 04-0917V

284. Trauma Fontaine Newell on behalf of Alanis Dior Newell

South Orange, New Jersey

Court of Federal Claims Number 04-0918V

285. Sherri and Gregory Kessler on behalf of Gregory Stone Kessler

Blaine, Minnesota

Court of Federal Claims Number 04-0919V

286. Francine Russo and Jaime Mendoza on behalf of Jaime Anthony Mendoza

Yuba City, California

Court of Federal Claims Number 04-0920V

287. Liza Milliman on behalf of Hunter Kizzire

Sandstone, Minnesota

Court of Federal Claims Number 04-0921V

288. Brenda Wadsworth on behalf of Kendall Riley Wadsworth

West Blocton, Alabama

Court of Federal Claims Number 04-0922V

289. Jeanne and Julius Fontelera on behalf of Justin Fontelera

Chicago, Illinois

Court of Federal Claims Number 04-0924V

290. Karen McGuire on behalf of Danny McGuire, III

Chicago, Illinois

Court of Federal Claims Number 04-0925V

291. Melissa and Sumei Gomez on behalf of Emanuel Gomez

Houston, Texas

Court of Federal Claims Number 04-0926V

292. Marilyn Edge on behalf of Jaelen Edge

Houston, Texas

Court of Federal Claims Number 04-0927V

293. Jennifer and Gary Carroll on behalf of Cassidy Carroll

Houston, Texas

Court of Federal Claims Number 04-0928V

294. Kathy and Fernando Galeano on behalf of Daniel Galeano

Van Nuys, California

Court of Federal Claims Number 04-0930V

295. Kristi and Robert Shinsato on behalf of Aaron Shinsato

Van Nuys, California

Court of Federal Claims Number 04-0931V

296. Kristi and Robert Shinsato on behalf of Matthew Shinsato

Van Nuys, California

Court of Federal Claims Number 04-0932V

297. Lorie Shelley on behalf of Jared Shelley

Van Nuys, California

Court of Federal Claims Number 04-0933V

298. Carolyn and John Doherty on behalf of Erica Rose Doherty

Van Nuys, California

Court of Federal Claims Number 04-0934V

299. Debra Billingslea on behalf of Allen Billingslea

Dallas, Texas

Court of Federal Claims Number 04-0935V

300. Rachel Talty on behalf of Samuel Talty

Chicago, Illinois

Court of Federal Claims Number 04-0937V

301. Richard Farretta on behalf of David Farretta

Boston, Massachusetts

Court of Federal Claims Number 04-0942V

302. Maya Gilmer on behalf of Jadon Hayden

Boston, Massachusetts

Court of Federal Claims Number 04-0943V

303. Danny Kuratli on behalf of Maxwell Kuratli

Boston, Massachusets

Court of Federal Claims Number 04-0944V

304. Jolene Lewis on behalf of Makinzie Lewis

Boston, Massachusetts

Court of Federal Claims Number 04-0945V

305. Peggy Hartman on behalf of Kade Hartman

Boston, Massachusetts

Court of Federal Claims Number 04-0946V

306. Susan Ridenour on behalf of Hanna Ridenour

Boston, Massachusetts

Court of Federal Claims Number 04-0947V

307. Douglas Carolino on behalf of Jasmine-Kay Carolino

Boston, Massachusetts

Court of Federal Claims Number 04-0948V

308. Melissa and Alan Lafave on behalf of Blake Lafave

Philadelphia, Pennsylvania

Court of Federal Claims Number 04-0952V

309. Katherine Andrews on behalf of Olivia Grace Sanderson Goff

Nashville, Tennessee

Court of Federal Claims Number 04-0956V

310. Peggy and Charlie Burnette on behalf of Savion Rasheed Burnette

Durham, North Carolina

Court of Federal Claims Number 04-0957V

311. Diann and Marc Kroeger on behalf of Luke Marcus Jon Kroeger

Waconia, Minnesota

Court of Federal Claims Number 04-0958V

312. Angelina and Juan Rios on behalf of Juan Enrique Rios

Kansas City, Missouri

Court of Federal Claims Number 04-0959V

313. Lisa and Danny Madden on behalf of James Arthur Madden

Portsmouth, Ohio

Court of Federal Claims Number 04-0960V

314. Kim Conley on behalf of Madison Conley

Powell, Ohio

Court of Federal Claims Number 04-0961V

315. Angela and Brandon Bowman on behalf of Braeden Dale Bowman

St. Marys, Ohio

Court of Federal Claims Number 04-0962V

316. Michelle and Dennis Bellaire on behalf of Alec Reece Bellaire

St. Joseph, Michigan

Court of Federal Claims Number 04-0963V

317. Tanisha and John Arrington on behalf of Jason Alexander Arrington

Flint, Michigan

Court of Federal Claims Number 04-0964V

318. Joyce and John Diedrich on behalf of Riley Austin Diedrich

Houston, Texas

Court of Federal Claims Number 04-0965V

319. Correy McManus on behalf of Niyla McManus, Deceased

Dunn, North Carolina

Court of Federal Claims Number 04-0966V

320. Joseph Kowalski

Mount Kisco, New York

Court of Federal Claims Number 04-0967V

321. Angela Smith on behalf of Russell Alan Wilharm, Jr.

Jacksonville, Florida

Court of Federal Claims Number 04-0969V

322. Karen and Casey Gulkin on behalf of Timber Ty-Andrew Gulkin

Greeley, Colorado

Court of Federal Claims Number 04-0971V

323. A. Lindsey Hewatt on behalf of Charles William Hewatt, III

Atlanta, Georgia

Court of Federal Claims Number 04-0975V

324. Michelle and Robert Lombardi on behalf of Alexander Robert Lombardi

Madison, Ohio

Court of Federal Claims Number 04-0976V

325. Susan Sawyer on behalf of Dylan Sawyer

Houston, Texas

Court of Federal Claims Number 04-0977V

326. Melanie Glock on behalf of Maisie Glock

Houston, Texas

Court of Federal Claims Number 04-0978V

327. Marisha Taylor on behalf of Lake Taylor

Houston, Texas

Court of Federal Claims Number 04-0979V

328. Tanya and Brian Haaseth on behalf of Alexander Haaseth

Houston, Texas

Court of Federal Claims Number 04-0980V

329. Diane and Mark Marton on behalf of Mark Marton

Houston, Texas

Court of Federal Claims Number 04-0981V

330. Carrie and Kenneth Sandt on behalf of Kenneth Sandt, Jr.

Houston, Texas

Court of Federal Claims Number 04-0982V

331. Deborah Whitmer on behalf of Eric Whitmer

Boston, Massachusetts

Court of Federal Claims Number 04(0991V

332. Leigh Eworonsky on behalf of Andrew Eworonsky

Boston, Massachusetts

Court of Federal Claims Number 04-0992V

333. Jennifer Barsamian on behalf of Zachary Barsamian

Boston, Massachusetts

Court of Federal Claims Number 04-0993V

334. Nora and Bobby Gore on behalf of David Michael Gore

Charleston, West Virginia

Court of Federal Claims Number 04-0994V

335. Laura Mersburgh on behalf of Elijah Mersburgh

Honolulu, Hawaii

Court of Federal Claims Number 04-0997V

336. Pamela and Brian Braden on behalf of Nicholas Braden

Minneapolis, Minnesota

Court of Federal Claims Number 04-0998V

337. Nathan Yorgason on behalf of Whitney Yorgason

Harlowton, Colorado

Court of Federal Claims Number 04-1005V

338. Rosemary and Jimmy Ayala on behalf of Jimmy Ayala, Jr.

Philadelphia, Pennsylvania

Court of Federal Claims Number 04-1007V

339. Francine Jiminez and Albert Williams on behalf of Alsay Leday Williams

Anaheim, California

Court of Federal Claims Number 04-1008V

340. Quiana Ferguson on behalf of Christopher Eugene Ferguson

Dayton, Ohio

Court of Federal Claims Number 04-1009V

341. Sonya Tolentino on behalf of Nanea Tolentino, Deceased

Kealakekua, Hawaii

Court of Federal Claims Number 04-1014V

342. Kimberly Dixon on behalf of Karl Coleman

New Orleans, Louisiana

Court of Federal Claims Number 04-1022V

343. Terri and Oscar Finley on behalf of Donovan Finley

New Orleans, Louisiana

Court of Federal Claims Number 04-1023V

344. Jacqueline and Steven Gilbert on behalf of Taylor Gilbert

New Orleans, Louisiana

Court of Federal Claims Number 04-1024V

345. Sabrina and Clarence Toussaint on behalf of Allen Toussaint

New Orleans, Louisiana

Court of Federal Claims Number 04-1025V

346. Lauren and David Mason on behalf of Sage Mason

Limestone, Texas

Court of Federal Claims Number 04-1027V

347. Kathleen and Neil Doherty on behalf of Connor Doherty

Woodburn, Massachusetts

Court of Federal Claims Number 04-1033V

348. Brenda and Ronald Knable on behalf of Paul Knable

Chicago, Illinois

Court of Federal Claims Number 04-1034V

349. Thomas Bell on behalf of Annmarie Bell

Suffolk, Virginia

Court of Federal Claims Number 04-1038V

350. Carla and Kevin Long on behalf of Colin James Long

Vancouver, Washington

Court of Federal Claims Number 04-1039V

351. Jennifer and Gary Stone on behalf of Amelia Stone

Oshkosh, Wisconsin

Court of Federal Claims Number 04-1041V

352. Michele Siciliano on behalf of August Siciliano

Ligonier, Pennsylvania

Court of Federal Claims Number 04-1054V

353. Ingrid Bianco on behalf of Greta Bianco

Somers Point, New Jersey

Court of Federal Claims Number 04-1059V

354. Lonnie Vestal on behalf of Dakota Vestal

Tyler, Texas

Court of Federal Claims Number 04-1063V

355. Amy Schlosser on behalf of Daniel Joseph Schlosser

Tyler, Texas

Court of Federal Claims Number 04-1064V

356. Cheryl Thompson on behalf of Aaron Thompson

Tyler, Texas

Court of Federal Claims Number 04-1065V

357. Theresa and Dale Conkel on behalf of Mark Conkel

Richardson, Texas

Court of Federal Claims Number 04-1072V

358. Sonia and Hector Rosado on behalf of Hector Rosado

Miami, Florida

Court of Federal Claims Number 04-1076V

359. Heather Hamilton on behalf of Logan Hamilton, Deceased

Edmund, Oklahoma

Court of Federal Claims Number 04-1077V

360. Lori Quast on behalf of Steven Quast

Mattoon, Illinois

Court of Federal Claims Number 04-1078V

361. Teresa and Steven Myers on behalf of Audrey Myers

Charlotte, North Carolina

Court of Federal Claims Number 04-1079V

362. Katie Jaynes on behalf of Marcus Cetell

Somers Point, New Jersey

Court of Federal Claims Number 04-1080V

363. Bruce Stearns

Saint Croix Falls, Wisconsin

Court of Federal Claims Number 04-1082V

364. Cathleen and John Akers on behalf of John Henry Akers

Houston, Texas

Court of Federal Claims Number 04-1083V

365. Kelly and Josef Blake on behalf of Allisha Ray Blake

Charleston, West Virginia

Court of Federal Claims Number 04-1084V

366. Tina Cockrell on behalf of Mark Andrew Carwell

Mount Vernon, Ohio

Court of Federal Claims Number 04-1085V

Dated: February 11, 2005.
Elizabeth M. Duke,
Administrator.

[FR Doc. 05-3176 Filed 2-17-05; 8:45 am]

BILLING CODE 4165-15-P